DENALI COMMISSION

Notice of Intent To Prepare an Environmental Impact Statement To Study Mertarvik Community Infrastructure Development Project, Alaska

AGENCY: Denali Commission.

ACTION: Notice of intent.

SUMMARY: The Denali Commission, in cooperation with the U.S. Army Corps of Engineers (USACE), announces its intention to prepare an Environmental Impact Statement (EIS) to study the feasibility of relocating the threatened Newtok Village from its current location to Mertarvik, a site roughly nine miles away on Nelson Island, which is across the Ninglik River from mainland Alaska. The EIS will address the potential for positive and negative environmental impacts associated with constructing all required infrastructure at the new village townsite of Mertarvik. The Denali Commission, along with the USACE, will hold a scoping meeting in Newtok Village, Alaska, in an effort to better define the issues associated with permanently relocating village residents. While the official scoping period concludes 30 days following the publication of this NOI, public input will continue to be solicited throughout the study process.

DATES: A scoping meeting will be held in Newtok Village, AK at 6:00 p.m. on Wednesday March 22 in the school gymnasium. (Schedule updates will be posted to the “Events” section of the Denali Commission Web page found at https://www.denali.gov/.) A summary of the comments received will be forwarded to meeting participants and other public as requested. The scoping meeting will be advertised as necessary.

ADDRESSES: Please direct comments or suggestions on the scope of the EIS to: Mr. Christopher Floyd, NEPA Coordinator, U.S. Army Corps of Engineers, Alaska District, CEPOA-PM-C-ER, P.O. Box 6898, Joint Base Elmendorf-Richardson, AK 99506-0898; Phone: 907-753-2700; email christopher.b.floyd@usace.army.mil.

FOR FURTHER INFORMATION CONTACT: For information or questions concerning the proposed project, please contact: CAPT Donald Antrobus, Environmentally Threatened Communities Program Manager, Denali Commission, 510 L Street, Suite 410, Anchorage, AK 99501; 907-271-3500; dantrobus@denali.gov.

SUPPLEMENTARY INFORMATION:

Background

The village of Newtok (population 354, 2010 census) is on the west coast of Alaska in the broad, low-lying delta between the Yukon and Kuskokwim Rivers. The village is located on low marshy terrain on the banks of a tidally influenced slough of the Ninglik River. The Ninglik River is eroding toward the village of Newtok at an average rate of 72 feet per year. The maximum yearly observed rate of erosion is 300 feet per year. Based upon an average annual riverbank loss resulting from fall storms, the village has approximately four years before critical village infrastructure will be threatened and/or destroyed.

Changes in river channels surrounding the village of Newtok have also increased the frequency and severity of flooding in the village. Lower lying areas of the village flood almost every year. Flooding events in 2005 and 2006 flooded the village water supply, causing raw sewage to be spread throughout the village, displacing residents from homes, destroying subsistence food storage and other facilities, and shutting down essential utilities.

The closest high ground to the village of Newtok that avoids damages from both flooding and erosion is the Mertarvik site on Nelson Island, a 10,943-acre site transferred to the Newtok Native Corporation, from the U.S. Fish & Wildlife Service, in November 2003 by Public Law 108-129, and designated as “Proposed Village Site” on a map titled “Proposed Newtok Exchange,” dated September 2002.

Additional information related to past efforts to address erosion and relocate the village can be found at: https://www.commerce.alaska.gov/web/dcra/PlanningLandManagement/NewtokPlanningGroup.aspx.

Purpose and Need for Agency Action

The purpose and need for this study is to identify a practicable and environmentally responsible solution to protect the village of Newtok from both flooding and erosion damages and loss of life.

This EIS will assess the potential environmental impacts of reconstructing all required village infrastructure at the new village site of Mertarvik on Nelson Island. This action is needed without delay to avoid the potential loss of life and/or the indefinite dislocation of Newtok Village residents associated with the relentless migration of the Ninglik River.

Preliminary Alternatives

Consistent with National Environmental Policy Act (NEPA) implementation requirements, this EIS will assess the full range of reasonable and practicable alternatives regarding protecting the village of Newtok from erosion and flooding.

Structural Alternatives: This set of alternatives will investigate and describe possible improvement alternatives that would allow village residents to stay in their current location. Types of structural solutions could include, but are not limited to, constructing an earth-filled levee surrounding the entire village, including the airport, and/or raising the buildings above the highest flood level.

Proposed Action: In collaboration with the Newtok Village Council (NVC), the Denali Commission has proposed to complete comprehensive townsite planning for the new Mertarvik village site encompassing all infrastructure projects necessary to support the entire village of Newtok population, which needs relocation from the endangered village of Newtok site. The townsite plan will include at a minimum the following infrastructure projects: Airport; solid waste landfill; wastewater collection system and wastewater treatment lagoon; bulk fuel farm and fuel dispensing facility; power house and power distribution system; water treatment plan, water storage tank, and water distribution lines; barge landing; the town center consisting of housing, school, public buildings, and subdivision roads; and all associated connecting roads. The final siting of these proposed facilities will be determined in the townsite planning effort through a village engagement process. The proposed Federal actions to be covered by the EIS will consist of all infrastructure identified and sited in the final townsite plan.

No Action Alternative: Under the “no action” alternative, the village of Newtok would remain in its current location as long as physically possible, continue to experience severe damages from flooding and erosion, and eventually be forced to evacuate the site when it succumbs to catastrophic flooding and/or erosion.

Identification of Environmental and Other Issues

The Denali Commission intends to address the following environmental issues when assessing the potential environmental impacts of the alternatives in this EIS. Additional issues may be identified as a result of the scoping process. The Denali Commission invites comment from Federal agencies; state, local, and tribal governments; and the general public on these and any other issues that should be considered in the EIS:

• Potential impacts on health from the village of Newtok remaining in its current location.

• Potential impacts on health, both positive and negative, as a result of relocation.

• Potential impacts to workers during the construction of the facilities.

• Potential impacts to surface water, tidelands, flora and fauna including turbidity from construction activities.

• Potential impacts on air quality from emissions and from noise during construction and operations.

• Potential cumulative impacts of the past, present, and reasonably foreseeable future actions.

• Potential impacts to historically significant properties, if present, and on access to traditional use areas.

• Potential impacts on local, regional, or national resources from materials and utilities required for construction.

• Potential impacts on ecological resources, including threatened and endangered species and water quality.

• Potential impacts on local employment, income, population, housing, and public services from harbor construction and operations.

NEPA Process

The EIS for the proposed project will be prepared pursuant to the National Environmental Policy Act (NEPA) of 1969 (42 U.S.C. 4321 et seq.), Council on Environmental Quality (CEQ) NEPA Regulations (40 CFR parts 1500-1508), and Denali Commission NEPA Implementing Procedures (45 CFR part 900). Following publication of this Notice of Intent, the Denali Commission will continue the scoping process, prepare and distribute the Draft EIS for public review, hold public meeting(s) to solicit public comment on the Draft EIS, and publish a Final EIS. Not less than 30 days after the publication of the U.S. Environmental Protection Agency's Notice of Availability of the Final EIS, the Denali Commission may issue a Record of Decision (ROD) documenting its decision concerning the proposed action.

EIS Schedule

The Draft EIS is scheduled to be published no sooner than 1 July 2017. A 45-day comment period on the Draft EIS is planned, which will include public meeting(s) to receive comments. Availability of the Draft EIS, the dates of the public comment period, and information about public meeting(s) will be announced in the Federal Register and in the local news media.

The Final EIS for the Mertarvik Infrastructure Development Project is scheduled to be available no sooner than 30 September 2017. A Record of Decision would be issued no sooner than 30 days after the U.S. Environmental Protection Agency's notice of availability of the Final EIS is published in the Federal Register.

Joel Neimeyer,
Federal Co-Chair, Denali Commission.

[FR Doc. 2017-04119 Filed 3-2-17; 8:45 am]

BILLING CODE 3300-01-P